DEPARTMENT OF THE INTERIOR

Bureau of Land Management

DEPARTMENT OF AGRICULTURE

Forest Service

[CA 668 _05_1610_PG_083A]

Santa Rosa and San Jacinto Mountains National Monument Advisory Committee Notice of Call for Public Nominations for National Monument Advisory Committee

AGENCIES: Bureau of Land Management, Interior and Forest Service, Agriculture.

ACTION: Call for nominations for the appointment to one open position on the Santa Rosa and San Jacinto Mountains National Monument Advisory Committee (MAC).

SUMMARY: The Santa Rosa and San Jacinto Mountains National Monument Act of 2000 (Act) required the establishment of a citizens advisory committee to advise the Secretary of the U.S. Department of the Interior and the Secretary of the U.S. Department of Agriculture on resource management issues associated with the Santa Rosa and San Jacinto Mountains National Monument. Today the National Monument Advisory Committee provides advice to the Secretaries on issues regarding the implementation of the National Monument Management Plan.

This notice is an open request for the public to submit nomination applications for one (1) National Monument Advisory Committee (MAC) position which will expire in November, 2007.

The National Monument Advisory Committee is managed under the provisions of the Federal Advisory Committee Act. The call for open nomination is for the appointment of a representative for:

• Pinyon Community Council.

Nominations applications are available on-line at http://www.ca.blm.gov/palmsprings/santarosa/santa _rosa _national_monument.html; or may be requested by telephone or fax at (phone) 760-251-4800, (fax) 760-251-4899; via mail by writing to Santa Rosa and San Jacinto Mountains National Monument Advisory Committee Nominations, Attn: National Monument Manager—Application Request, c/o Bureau of Land Management, Palm Springs—South Coast Field Office, P.O. Box 581260, North Palm Springs, California 92258; (e-mail) ca_srsj_nm@ca.blm.gov; or visiting either the Palm Springs—South Coast Field Office at 690 West Garnet Avenue, or the National Monument Visitor Center at 51-500 Highway 74, Palm Desert, California 92260.

DATES: Submit completed nominations, to the address listed below no later than 60 days after the date of publication of this notice in the Federal Register.

ADDRESSES: Santa Rosa and San Jacinto Mountains National Monument Advisory Committee Nominations, Attn: National Monument Manager, c/o Bureau of Land Management, Palm Springs—South Coast Field Office, P.O. Box 581260, North Palm Springs, California 92258-1260.

Telephone, Fax, and E-Mail: (Phone) (760) 251-4804; (fax) (760) 251-4899; (e-mail) ca_srsj_nm@ca.blm.gov.

FOR FURTHER INFORMATION CONTACT: Frank Mowry, Writer-Editor, Santa Rosa and San Jacinto Mountains National Monument, (760) 251-4822.

SUPPLEMENTARY INFORMATION: As directed by the Act, the Secretary of the Interior and the Secretary of Agriculture have jointly established an advisory committee for the Santa Rosa and San Jacinto Mountains National Monument. The National Monument Advisory Committee's purpose is to advise the Secretaries with respect to the implementation of the National Monument Management Plan. The National Monument Advisory Committee meets several times a year. Their purpose is to gather and analyze information, conduct studies and field examinations, hear public testimony, ascertain facts, and, in an advisory capacity only, develop recommendations concerning the implementation of the National Monument Management Plan. The designated Federal officer, or their designee, in connection with special needs for advice, may call additional meetings as necessary.

In accordance with the National Monument Advisory Committee Charter, any individual or organization may nominate one or more persons to serve on the National Monument Advisory Committee. Individuals may nominate themselves for National Monument Advisory Committee membership. To make a nomination, individuals must submit a completed nomination form; letters of reference, a recommendation from Pinyon Community Council and other community interests or organizations; and any other information explaining the nominee's qualification, to the office listed above. Applications must be completed in full following application instructions. Note: Incorrectly completed or incomplete applications will be rejected. Nomination applications become the property of the Department of the Interior, Bureau of Land Management, Santa Rosa and San Jacinto Mountains National Monument and will not be returned. Nominations may be made for the following category of interest, as specified in the Act:

• A representative of Pinyon Community Council.

Nominations to the National Monument Advisory Committee should describe and document the proposed member's qualifications for membership. Nomination forms will be available on-line through the National Monument's Web site at http://www.ca.blm.gov/palmsprings/santarosa/santa _rosa _national_monument.html. Forms may be picked up in person by visiting the Bureau of Land Management, Palm Springs—South Coast Field Office, 690 West Garnet Avenue, North Palm Springs, CA 92258, from the National Monument Visitor Center at 51-500 Highway 74, Palm Desert, CA 92262. Forms may be requested by telephone or fax at: (phone) (760) 251-4800; (760) 862-9984; (fax) (760) 251-4899; or in writing to the National Monument at either the BLM; or via e-mail at ca_srsj _nm@ca.blm.gov.

National Monument Advisory Committee members are appointed for 3-year terms. The Secretary of the Interior will make appointments to the National Monument Advisory Committee with the concurrence of the Secretary of Agriculture. All National Monument Advisory Committee members are volunteers and serve without pay, but will be reimbursed for travel and per diem expense at the current rates for government employees under 5 U.S.C. 5703.

Dated: February 17, 2005.
Gail Acheson,
Bureau of Land Management, Palm Springs—South Coast, Field Office Manager.

Dated: February 17, 2005.
Danella George,
Santa Rosa and San Jacinto Mountains, National Monument Manager.

Dated: February 17, 2005.
Laurie Rosenthal,
District Ranger, San Jacinto Ranger District, San Bernardino National Forest.

[FR Doc. 05-7710 Filed 4-15-05; 8:45 am]

BILLING CODE 4310-40-P